DEPARTMENT OF DEFENSE

Department of the Army

32 CFR Part 578

Decorations, Medals, Ribbons, and Similar Devices

AGENCY: Department of the Army, DOD.

ACTION: Final rule; removal.

SUMMARY: This action removes 32 CFR Part 578, Decorations, Medals, Ribbons, and Similar Devices. The Department of the Army has determined that the rules prescribing policy and criteria for military awards and the administrative instructions for processing military awards are not required to be published in the Code of Federal Regulations (CFR) because they are not generally applicable and have no legal effect per 44 U.S.C. 1505.

DATES: Effective date November 12, 2008.

ADDRESSES: U.S. Army Human Resources Command, ATTN: AHRC-PDP-A, 200 Stovall Street, Alexandria, VA 22332-0471.

FOR FURTHER INFORMATION CONTACT: Mr. Les Plooster, Policy Section, Military Awards Branch, 703-325-4761.

SUPPLEMENTARY INFORMATION: The Deputy Chief of Staff, G-1, is the proponent for the regulation represented in 32 CFR Part 578. The objective of the Department of the Army Military Awards Program is to provide tangible recognition for acts of valor, exceptional service or achievement, special skills or qualifications, and acts of heroism not involving actual combat. Implementation of the program is a command responsibility, with the goal of fostering mission accomplishment by recognizing excellence of both military and civilian members of the force and motivating them to high levels of performance and service. As such, the program does not have the general applicability and legal effect required to publish rules pertaining to this program in the Code of Federal Regulations.

List of Subjects in 32 CFR Part 578

Decorations, Medals, Awards, Military Personnel.

PART 578—[REMOVED]

Accordingly, for reasons stated in the preamble, under the authority of Sec. 3012, Public Law 84-1028, 70A Stat. 157, and 10 U.S.C. 3013, 32 CFR Part 578, Decorations, Medals, Ribbons, and Similar Devices, is removed in its entirety.

Brenda S. Bowen,
Army Federal Register Liaison Officer.

[FR Doc. E8-26699 Filed 11-10-08; 8:45 am]

BILLING CODE 3710-08-P